SECURITIES AND EXCHANGE COMMISSION

Sunshine Act Meeting

Notice is hereby given, pursuant to the provisions of the Government in the Sunshine Act, Pub. L. 94-409, that the Securities and Exchange Commission will hold the following meetings during the week of April 24, 2000.

Commissioner Carey, as duty officer, determined that no earlier notice thereof was possible.

An open meeting will held on Tuesday, April 25, 2000 at 10 a.m. in Room 1C30.

The subject matter of the open meeting scheduled for Tuesday, April 25, 2000 at 10:00 a.m. will be: The Commission will consider issuance of an interpretive release providing guidance on the application of the federal securities laws to electronic media, including updating previous guidance on the use of electronic media to deliver documents under the federal securities laws and related matters. For further information, please contact P.J. Himelfarb or Mark A. Borges at (202) 942-2900.

A closed meeting will be held on Thursday April 27, 2000 at 11:00 a.m.

Commissioners, Counsel to the Commissioners, the Secretary to the Commission, and recording secretaries will attend the closed meeting. Certain staff members who have an interest in the matters may also be present.

The General Counsel of the Commission, or his designee, has certified that, in his opinion, one or more of the exemptions set forth in 5 U.S.C. 552b(c)(4), (8), (9)(A) and (10) and 17 CFR 200.402(a)(4), (8), (9)(A) and (10), permit consideration for the scheduled matters at the closed meeting.

The subject matter of the closed meeting scheduled Thursday, April 27, 2000 will be:

Institution and settlement of injunctive actions; and

Institution and settlement of administrative proceedings of an enforcement nature.

At times, changes in Commission priorities require alterations in the scheduling of meeting items. For further information and to ascertain what, if any, matters have been added, deleted or postponed, please contact:

The Office of the Secretary at (202) 942-7070.

Dated: April 19, 2000.
Jonathan G. Katz,
Secretary.

[FR Doc. 00-10205 Filed 4-19-00; 3:52 pm]

BILLING CODE 8010-01-M